DEPARTMENT OF AGRICULTURE

Submission for OMB Review; Comment Request

April 20, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by May 25, 2017 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Special Use Administration.

OMB Control Number: 0596-0082.

Summary of Collection: The Forest Service is authorized under Title 5 of the Federal Land Policy and Management Act of 1976 (FLPMA, Pub. L. 94-579); the Organic Administration Act of 1897, (16 U.S.C. 551); the National Forest Ski Area Permit Act (16 U.S.C. 497b); section 28 of the Mineral Leasing Act (30 U.S.C. 185); the National Forest Roads and Trails Act (FRTA, 16 U.S.C. 532-538); section 7 of the Granger-Thye Act (16 U.S.C. 480d); the Act of May 20, 2000 (16 U.S.C. 460/-6d); and the Federal Lands Recreation Enhancement Act (16 U.S.C. 6801-6814) to issue and administer authorizations for use and occupancy of National Forest System (NFS) lands and require the collection of information from the public for those purposes. Forest Service regulations implementing these authorities, are found under Title 36, Code of Federal Regulations, Section 251, Subpart B (36 CFR 251, Subpart B). Information collected include submission of applications, execution of forms, and imposition of terms and conditions that entail information collection requirements, such as the requirement to submit annual financial information; to prepare and update an operating plan; to prepare and update a maintenance plan; and to submit compliance reports and information updates.

Authorized under their own various statutes, The Department of Interior's Bureau of Land Management, U.S. Fish and Wildlife Service, National Park Service, and Bureau of Reclamation along with the U.S. Army Corps of Engineers also use the SF-299 to collect information.

Need and Use of the Information: The information collected is evaluated by the FS and DOI to ensure that authorized uses of NFS lands are in the public interest and are compatible with each Department's agency missions. The information helps each agency identify environmental and social impacts of special uses for purposes of compliance with the National Environmental Policy Act and program administration. Information is collected under six categories: (1) Information required from proponents and applicants to evaluate proposals and applications to use or occupy NFS lands; (2) information required from applicants to complete special use authorizations; (3) annual financial information required from holders to determine land use fees; (4) information required from holders to prepare and update operating plans; (5) information required from holders to prepare and update maintenance plans; and (6) information required from holders to complete compliance reports and information updates.

Description of Respondents: Individuals or households; Business or other for-profit; Not-for-profit institutions; Farms; Federal Government; State, Local or Tribal Government.

Number of Respondents: 155,930.

Frequency of Responses: Reporting: On occasion.

Total Burden Hours: 336,461.

Charlene Parker,
Departmental Information Collection Clearance Officer.

[FR Doc. 2017-08359 Filed 4-24-17; 8:45 am]

BILLING CODE 3411-15-P